ENVIRONMENTAL PROTECTION AGENCY

[FRL OP-OFA-042]

Environmental Impact Statements; Notice of Availability

Responsible Agency: Office of Federal Activities, General Information 202-564-5632 or https://www.epa.gov/nepa.

Weekly receipt of Environmental Impact Statements (EIS)

Filed October 24, 2022 10 a.m. EST Through October 31, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220157, Final, USFS, CA, Sugar Pine Project Water Right 15375 Extension and Radial Gates Installation, Review Period Ends: 12/05/2022, Contact: Timothy Cardoza 530-559-2665.

EIS No. 20220158, Draft, NNSA, CA, Draft Site-Wide Environmental Impact Statement for Continued Operation of the Lawrence Livermore National Laboratory, Comment Period Ends: 01/03/2023, Contact: Ms. Fana Gebeyehu-Houston 833-778-0508.

EIS No. 20220159, Draft, NASA, UT, Mars Sample Return (MSR) Campaign Programmatic Environmental Impact Statement, Comment Period Ends: 12/19/2022, Contact: Steve Slaten 202-358-0016.

Dated: October 31, 2022.
Cindy S. Barger,
Director, NEPA Compliance Division, Office of Federal Activities.

[FR Doc. 2022-24036 Filed 11-3-22; 8:45 am]

BILLING CODE 6560-50-P